DEPARTMENT OF TRANSPORTATION

Federal Aviation Administration

14 CFR Part 39

[Docket No. FAA-2025-0753; Project Identifier MCAI-2024-00681-T; Amendment 39-23093; AD 2025-15-06]

RIN 2120-AA64

Airworthiness Directives; Dassault Aviation Airplanes

AGENCY: Federal Aviation Administration (FAA), DOT.

ACTION: Final rule.

SUMMARY: The FAA is adopting a new airworthiness directive (AD) for certain Dassault Aviation Model FALCON 2000EX airplanes. This AD was prompted by reports of the incorrect installation of the very high frequency omnidirectional range and localizer (VOR/LOC) antenna coupler. This AD requires implementing an operational limitation for Category (CAT) II and CAT III approaches, inspecting the VOR/LOC antenna coupler, and reinstalling the VOR/LOC antenna coupler if necessary. The FAA is issuing this AD to address the unsafe condition on these products.

DATES: This AD is effective September 3, 2025.

The Director of the Federal Register approved the incorporation by reference of a certain publication listed in this AD as of September 3, 2025.

ADDRESSES:

AD Docket: You may examine the AD docket at regulations.gov under Docket No. FAA-2025-0753; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building, Ground Floor, Room W12-140, 1200 New Jersey Avenue SE, Washington, DC 20590.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-0753.

FOR FURTHER INFORMATION CONTACT: Jonathan Duong, Aviation Safety Engineer, FAA, 1600 Stewart Avenue, Suite 410, Westbury, NY 11590; telephone: 516-228-7362; email: 9-AVS-AIR-BACO-COS@faa.gov.

SUPPLEMENTARY INFORMATION:

Background

The FAA issued a notice of proposed rulemaking (NPRM) to amend 14 CFR part 39 by adding an AD that would apply to certain Dassault Aviation Model FALCON 2000EX airplanes. The NPRM was published in the Federal Register on May 15, 2025 (90 FR 20569). The NPRM was prompted by AD 2024-0219, dated November 18, 2024 (EASA AD 2024-0219) (also referred to as the MCAI), issued by EASA, which is the Technical Agent for the Member States of the European Union. The MCAI states that incorrect installations of the VOR/LOC antenna have been reported. This unsafe condition, if not addressed, could result in oscillations of the lateral deviation indication on both localizer (LOC) number 1 and LOC number 2 during an instrument landing system (ILS) approach, and in possible inaccurate or erroneous VOR indication and associated flight management system VOR/distance measuring equipment (DME) position updates.

In the NPRM, the FAA proposed to require implementing an operational limitation for CAT II and CAT III approaches, inspecting the VOR/LOC antenna coupler, and reinstalling the VOR/LOC antenna coupler if necessary, as specified in EASA AD 2024-0219. The FAA is issuing this AD to address lateral deviation LOC indications and inaccurate or erroneous VOR indication, which could lead to an airplane departing from its scheduled flight path and possible impact with terrain or obstacle.

You may examine the MCAI in the AD docket at regulations.gov under Docket No. FAA-2025-0753.

Discussion of Final Airworthiness Directive

Comments

The FAA received no comments on the NPRM or on the determination of the cost to the public.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2024-0219 which specifies procedures for implementing an operational limitation prohibiting CAT II and CAT III approaches, inspecting/checking the installation of the VOR/LOC antenna coupler, and removing and reinstalling any incorrectly installed VOR/LOC antenna coupler. For airplanes with an operational approval to conduct CAT II or CAT III approaches, EASA AD 2024-0219 also specifies that the inspection and applicable corrective actions eliminate the need for the operational limitation. This material is reasonably available because the interested parties have access to it through their normal course of business or by the means identified in the ADDRESSES section.

Costs of Compliance

The FAA estimates this AD affects 279 airplanes of U.S. registry. The FAA estimates the following costs to comply with this AD:

Estimated Costs for Required Actions
Labor cost | Parts cost | Cost per product | Cost on U.S. operators
2 work-hours × $85 per hour = $170 | $0 | $170 | $47,430

The FAA estimates the following costs to do any necessary on-condition action that would be required based on the results of any required actions. The FAA has no way of determining the number of aircraft that might need this on-condition action:

Estimated Costs of On-Condition Actions
Labor cost | Parts cost | Cost per product
1 work-hour × $85 per hour = $85 | $0 | $85

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-15-06 Dassault Aviation: Amendment 39-23093; Docket No. FAA-2025-0753; Project Identifier MCAI-2024-00681-T.

(a) Effective Date

This airworthiness directive (AD) is effective September 3, 2025.

(b) Affected ADs

None.

(c) Applicability

This AD applies to Dassault Aviation Model FALCON 2000EX airplanes, certificated in any category, as identified in European Union Aviation Safety Agency (EASA) AD 2024-0219, dated November 18, 2024 (EASA AD 2024-0219).

(d) Subject

Air Transport Association (ATA) of America Code 34, Navigation.

(e) Unsafe Condition

This AD was prompted by reports of the incorrect installation of the very high frequency omnidirectional range and localizer (VOR/LOC) antenna coupler. The FAA is issuing this AD to address the incorrect installation of the VOR/LOC antenna coupler. The unsafe condition, if not addressed, could result in oscillations of the lateral deviation indication on both LOC number 1 and LOC number 2 during an instrument landing system (ILS) approach, and possible inaccurate or erroneous VOR indication and associated flight management system VOR/distance measuring equipment (DME) position updates. The unsafe condition, if not addressed, could lead to an airplane departing from its scheduled flight path and possible impact with terrain or obstacle.

(f) Compliance

Comply with this AD within the compliance times specified, unless already done.

(g) Requirements

Except as specified in paragraph (h) of this AD: Comply with all required actions and compliance times specified in, and in accordance with, EASA 2024-0219.

(h) Exceptions to EASA AD 2024-0219

(1) Where EASA AD 2024-0219 refers to its effective date, this AD requires using the effective date of this AD.

(2) Where paragraph (1) of EASA AD 2024-0219 specifies that “[a]mending the applicable AFM [airplane flight manual] by inserting a copy of this AD and, thereafter, operating the aeroplane accordingly, is an acceptable method to comply with this [operational limitation] requirement”, this AD does not require operating the airplane according to that AFM revision, as that action is already required by existing FAA operating regulations (see 14 CFR 91.9, 14 CFR 91.505, and 14 CFR 121.137).

(3) This AD does not adopt the “Remarks” section of EASA AD 2024-0219.

(i) Special Flight Permit

Special flight permits may be issued in accordance with 14 CFR 21.197 and 21.199 to operate the airplane to a location where the airplane can be modified, provided category II and category III operations are prohibited.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (k) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Dassault Aviation's EASA Design Organization Approval (DOA). If approved by the DOA, the approval must include the DOA-authorized signature.

(k) Additional Information

For more information about this AD, contact Jonathan Duong, Aviation Safety Engineer, FAA, 1600 Stewart Avenue, Suite 410, Westbury, NY 11590; telephone: 516-228-7362; email: 9-AVS-AIR-BACO-COS@faa.gov.

(l) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0219, dated November 18, 2024.

(ii) Reserved.

(3) For EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on July 24, 2025.
Steven W. Thompson,
Acting Deputy Director, Compliance & Airworthiness Division, Aircraft Certification Service.

[FR Doc. 2025-14440 Filed 7-29-25; 8:45 am]

BILLING CODE 4910-13-P